DEPARTMENT OF JUSTICE

[OMB Number 1110-0045]

Agency Information Collection Activities; Proposed eCollection eComments Requested; Extension With Change, of a Previously Approved Collection Customer Satisfaction Assessment Survey

AGENCY: Federal Bureau of Investigation Laboratory, Department of Justice.

ACTION: 60-day notice.

SUMMARY: The Department of Justice (DOJ), Federal Bureau of Investigation, Laboratory Division (LD), will be submitting the following information collection request to the Office of Management and Budget (OMB) for review and approval in accordance with the Paperwork Reduction Act of 1995.

DATES: Comments are encouraged and will be accepted for 60 days until March 20, 2018.

FOR FURTHER INFORMATION CONTACT: If you have additional comments especially on the estimated public burden or associated response time, suggestions, or need a copy of the proposed information collection instrument with instructions or additional information, please contact Robin Ruth, Quality Manager, Federal Bureau of Investigation Laboratory, 2501 Investigation Parkway, Quantico, Virginia 22135.).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Customer Satisfaction Assessment.

3. The agency form number, if any, and the applicable component of the Department sponsoring the collection: The form number is FD-1000. The applicable component within the Department of Justice is the Federal Bureau of Investigation Laboratory.

4. Affected public who will be asked or required to respond, as well as a brief abstract: Respondents primarily include federal, state, and local law enforcement. Respondents also include the intelligence community, Department of Defense, and international police agencies personnel and/or crime laboratory personnel. This collection is a brief questionnaire regarding contributors' satisfaction with the services provided by the Federal Bureau of Investigation Laboratory. This collection is needed to evaluate the quality of services provided by the Federal Bureau of Investigation Laboratory. The Federal Bureau of Investigation Laboratory is accredited by the American Society of Crime Laboratory Directors/Laboratory Accreditation Board (ASCLD/LAB) which recently merged with the ANSI-ASQ National Accreditation Board (ANAB). A requirement for maintaining accreditation is to evaluate the level of service provided by the Federal Bureau of Investigation Laboratory to our customers. To meet this requirement the Federal Bureau of Investigation Laboratory is requesting its customers to complete and return the Customer Satisfaction Assessment.

5. An estimate of the total number of respondents and the amount of time estimated for an average respondent to respond: An estimated 1,000 respondents will complete the Customer Satisfaction Assessment survey in 2018. This estimate is based on the number of respondents in prior years of this collection. It is estimated that respondents will need 5 minutes to complete a questionnaire.

6. An estimate of the total public burden (in hours) associated with the collection: The estimated public burden associated with this collection is 84 hours. It is estimated that respondents will need 5 minutes to complete a questionnaire. The burden hours for collecting respondent data sum to approximately 84 hours (1000 respondents × 5 minutes = 83.33 hours).

If additional information is required contact: Melody Braswell, Department Clearance Officer, United States Department of Justice, Justice Management Division, Policy and Planning Staff, Two Constitution Square, 145 N Street NE, 3E.405A, Washington, DC 20530.

Dated: January 16, 2018.
Melody Braswell,
Department Clearance Officer for PRA, U.S. Department of Justice.

[FR Doc. 2018-00906 Filed 1-18-18; 8:45 am]

BILLING CODE 4410-02-P